DEPARTMENT OF HOMELAND SECURITY

Federal Emergency Management Agency

[Docket ID FEMA-2014-0002; Internal Agency Docket No. FEMA-B-1460]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: December 11, 2014.
Roy E. Wright,
Deputy Associate Administrator for Mitigation, Department of Homeland Security, Federal Emergency Management Agency.

State and county | Location and case No. | Chief executive officer of community | Community map repository | Online location of letter of map revision | Effective date of modification | Community No.
Alabama
Baldwin | City of Gulf Shores (14-04-6192P) | The Honorable Robert Craft, Mayor, City of Gulf Shores, P.O. Box 299, Gulf Shores, AL 36547 | Community Development Department, 1905 West 1st Street, Gulf Shores, AL 36547 | http://www.msc.fema.gov/lomc | Feb. 23, 2015 | 015005
Colbert | City of Muscle Shoals (14-04-8204P) | The Honorable David Bradford, Mayor, City of Muscle Shoals, P.O. Box 2624, Muscle Shoals, AL 35662 | City Hall, 2010 East Avalon Avenue, Muscle Shoals, AL 35661 | http://www.msc.fema.gov/lomc | Feb. 2, 2015 | 010047
Madison | Unincorporated areas of Madison County (14-04-7485P) | The Honorable Dale W. Strong, Chairman, Madison County Board of Commissioners, 100 Northside Square, Huntsville, AL 35801 | Madison County Public Works Department, 266-C Shields Road, Huntsville, AL 35811 | http://www.msc.fema.gov/lomc | Feb. 19, 2015 | 010151
Arizona:
Maricopa | City of El Mirage (14-09-2966P) | The Honorable Lana Mook, Mayor, City of El Mirage, 12145 Northwest Grand Avenue, El Mirage, AZ 85335 | City Hall, 14405 North Palm Street, El Mirage, AZ 85335 | http://www.msc.fema.gov/lomc | Feb. 27, 2015 | 040041
Maricopa | Unincorporated areas of Maricopa County (14-09-2966P) | The Honorable Denny Barney, Chairman, Maricopa County Board of Commissioners, 301 West Jefferson, 10th Floor, Phoenix, AZ 85003 | Maricopa County Flood Control District, 2801 West Durango Street, Phoenix, AZ 85009 | http://www.msc.fema.gov/lomc | Feb. 27, 2015 | 040037
Maricopa | Unincorporated areas of Maricopa County (14-09-2190P) | The Honorable Denny Barney, Chairman, Maricopa County Board of Commissioners, 301 West Jefferson, 10th Floor, Phoenix, AZ 85003 | Maricopa County Flood Control District, 2801 West Durango Street, Phoenix, AZ 85009 | http://www.msc.fema.gov/lomc | Feb. 27, 2015 | 040037
California:
Los Angeles | Unincorporated areas of Los Angeles County (14-09-4094P) | The Honorable Don Knabe, Chairman, Los Angeles County Board of Supervisors, 500 West Temple Street, Los Angeles, CA 90012 | Los Angeles County Department of Public Works, 900 South Fremont Avenue, Alhambra, CA 91803 | http://www.msc.fema.gov/lomc | Mar. 2, 2015 | 065043
Santa Clara | City of Morgan Hill (14-09-3877P) | The Honorable Steve Tate, Mayor, City of Morgan Hill, 17575 Peak Avenue, Morgan Hill, CA 95037 | Public Works Department, Engineering Division, 17575 Peak Avenue, Morgan Hill, CA 95037 | http://www.msc.fema.gov/lomc | Mar. 2, 2015 | 060346
Florida:
Bay | Unincorporated areas of Bay County (14-04-8612P) | The Honorable Guy M. Tunnell, Chairman, Bay County Board of Commissioners, 808 West 11th Street, Panama City, FL 32401 | Bay County Planning and Zoning Department, 808 West 11th Street, Panama City, FL 32401 | http://www.msc.fema.gov/lomc | Mar. 9, 2015 | 120004
Duval | City of Jacksonville (14-04-6432P) | The Honorable Alvin Brown, Mayor, City of Jacksonville, 117 West Duval Street, Suite 400, Jacksonville, FL 32202 | Development Services Department, 214 Hogan Street North, Suite 2100, Jacksonville, FL 32202 | http://www.msc.fema.gov/lomc | Mar. 2, 2015 | 120077
Monroe | City of Key West (14-04-7227P) | The Honorable Craig Cates, Mayor, City of Key West, 3126 Flagler Avenue, Key West, FL 33040 | Planning Department, 3140 Flagler Avenue, Key West, FL 33040 | http://www.msc.fema.gov/lomc | Feb. 26, 2015 | 120168
Orange | City of Orlando (14-04-5319P) | The Honorable Buddy Dyer, Mayor, City of Orlando, P.O. Box 4990, Orlando, FL 32802 | Permitting Services Division, 400 South Orange Avenue, Orlando, FL 32801 | http://www.msc.fema.gov/lomc | Mar. 6, 2015 | 120186
Orange | Unincorporated areas of Orange County (14-04-5319P) | The Honorable Teresa Jacobs, Mayor, Orange County, 201 South Rosalind Avenue, 5th Floor, Orlando, FL 32801 | Orange County Stormwater Management Department, 4200 South John Young Parkway, Orlando, FL 32839 | http://www.msc.fema.gov/lomc | Mar. 6, 2015 | 120179
Orange | Unincorporated areas of Orange County (14-04-4367P) | The Honorable Teresa Jacobs, Mayor, Orange County, 201 South Rosalind Avenue, 5th Floor, Orlando, FL 32801 | Orange County Stormwater Management Department, 4200 South John Young Parkway, Orlando, FL 32839 | http://www.msc.fema.gov/lomc | Mar. 6, 2015 | 120179
Georgia:
Columbia | City of Grovetown (14-04-4634P) | The Honorable George W. James, III, Mayor, City of Grovetown, 103 Old Wrightsboro Road, Grovetown, GA 30813 | Water Department, 103 Old Wrightsboro Road, Grovetown, GA 30813 | http://www.msc.fema.gov/lomc | Mar. 2, 2015 | 130265
Columbia | Unincorporated areas of Columbia County (14-04-4634P) | The Honorable Ron C. Cross, Chairman, Columbia County Board of Commissioners, P.O. Box 498, Evans, GA 30809 | Columbia County Planning Services Division, 603 Ronald Reagan Drive, Building B, 1st Floor, Evans, GA 30809 | http://www.msc.fema.gov/lomc | Mar. 2, 2015 | 130059
Hawaii: Maui | Maui County (14-09-2279P) | The Honorable Alan M. Arakawa, Mayor, Maui County, 200 South High Street, 9th Floor, Wailuku, HI 96793 | Maui County Planning Department, 250 South High Street, 2nd Floor, Wailuku, HI 96793 | http://www.msc.fema.gov/lomc | Mar. 2, 2015 | 150003
Mississippi:
Lafayette | City of Oxford (14-04-4705P) | The Honorable George Patterson, Mayor, City of Oxford, 107 Courthouse Square, Oxford, MS 38655 | City Hall, 107 Courthouse Square, Oxford, MS 38655 | http://www.msc.fema.gov/lomc | Mar. 2, 2015 | 280094
Lafayette | Unincorporated areas of Lafayette County (14-04-4705P) | The Honorable Jeff Busby, President, Lafayette County Board of Supervisors, 300 North Lamar Boulevard, Oxford, MS 38655 | Lafayette County Emergency Management Department, 300 North Lamar Boulevard, Oxford, MS 38655 | http://www.msc.fema.gov/lomc | Mar. 2, 2015 | 280093
Nevada:
Clark | City of Boulder City (14-09-1535P) | The Honorable Roger Tobler, Mayor, City of Boulder City, 401 California Avenue, Boulder City, NV 89005 | Engineering Department, 401 California Avenue, Boulder City, NV 89005 | http://www.msc.fema.gov/lomc | Feb. 19, 2015 | 320004
Clark | Unincorporated areas of Clark County (14-09-2584P) | The Honorable Steve Sisolak, Chairman, Clark County Board of Commissioners, 500 South Grand Central Parkway, Las Vegas, NV 89155 | Clark County Public Works Department, 500 Grand Central Parkway, Las Vegas, NV 89155 | http://www.msc.fema.gov/lomc | Feb. 19, 2015 | 320003
North Carolina:
Brunswick | Town of St. James (13-04-4667P) | The Honorable Rebecca Dus, Mayor, Town of St. James, 4140 A Southport-Supply Road, St. James, NC 28461 | Town Hall, 4140 A Southport-Supply Road, St. James, NC 28461 | http://www.msc.fema.gov/lomc | Feb. 27, 2015 | 370530
Brunswick | Unincorporated areas of Brunswick County (13-04-4667P) | The Honorable Phil Norris, Chairman, Brunswick County Board of Commissioners, P.O. Box 249, Bolivia, NC 28422 | Brunswick County Building Inspections Department, Building I, 75 Courthouse Drive, Northeast, Bolivia, NC 28422 | http://www.msc.fema.gov/lomc | Feb. 27, 2015 | 370295
Mecklenburg | City of Charlotte (14-04-8637P) | The Honorable Daniel Clodfelter, Mayor, City of Charlotte, 600 East 4th Street, Charlotte, NC 28202 | Mecklenburg County Storm Water Services Division, 700 North Tryon Street, Charlotte, NC 28202 | http://www.msc.fema.gov/lomc | Feb. 19, 2015 | 370159
Utah: Washington | Town of Springdale (14-08-0976P) | The Honorable Stan Smith, Mayor, Town of Springdale, 118 Lion Boulevard, Springdale, UT 84767 | Planning and Zoning Department, 118 Lion Boulevard, Springdale, UT 84767 | http://www.msc.fema.gov/lomc | Feb. 26, 2015 | 490179

[FR Doc. 2014-30532 Filed 12-29-14; 8:45 am]

BILLING CODE 9110-12-P